DEPARTMENT OF TRANSPORTATION

National Highway Traffic Safety Administration

[Docket No. NHTSA-2024-0026]

Receipt of Petitions for Renewal of Temporary Exemptions From Shoulder Belt Requirement for Side-Facing Seats on Motorcoaches

AGENCY: National Highway Traffic Safety Administration (NHTSA), Department of Transportation (DOT).

ACTION: Notice of receipt of petitions for renewal of temporary exemptions; request for comment.

SUMMARY: NHTSA has received almost identical petitions from 13 final-stage manufacturers of “entertainer-type motorcoaches,” seeking renewal of temporary exemptions from a shoulder belt requirement of Federal Motor Vehicle Safety Standard (FMVSS) No. 208, “Occupant crash protection,” for side-facing seats on motorcoaches. The petitioners seek to renew their exemptions that allow them to install Type 1 seat belts (lap belt only) at side-facing seating positions, instead of Type 2 seat belts (lap and shoulder belts) required by FMVSS No. 208. Each petitioner states that, absent the requested exemption, it will otherwise be unable to sell a vehicle whose overall level of safety or impact protection is at least equal to that of a nonexempted vehicle. NHTSA is publishing this document to notify the public of the receipt of the petitions and to request comment on them, in accordance with statutory and administrative provisions.

DATES: If you would like to comment, you should submit your comment not later than September 3, 2024.

FOR FURTHER INFORMATION CONTACT: Callie Roach, Office of the Chief Counsel, NCC-200, National Highway Traffic Safety Administration, 1200 New Jersey Avenue SE, Washington, DC 20590. Telephone: (202) 366-2992; Fax: (202) 366-3820.

ADDRESSES: You may submit your comment, identified by the docket number in the heading of this document, by any of the following methods:

• Federal eRulemaking Portal: Go to http://www.regulations.gov. Follow the online instructions for submitting comments.

• Fax: (202) 493-2251.

• Mail: U.S. Department of Transportation, Docket Operations, M-30, Room W12-140, 1200 New Jersey Avenue SE, Washington, DC 20590.

• Hand Delivery: 1200 New Jersey Avenue SE, West Building Ground Floor, Room W12-140, Washington, DC, between 9 a.m. and 5 p.m., Monday through Friday, except Federal Holidays. To be sure someone is there to help you, please call (202) 366-9322 before coming.

Instructions: All submissions must include the agency name and docket number.

Note that all comments received will be posted without change to http://www.regulations.gov, including any personal information provided. Please see the Privacy Act discussion below. NHTSA will consider all comments received before the close of business on the comment closing date indicated above. To the extent possible, NHTSA will also consider comments filed after the closing date.

Docket: For access to the docket to read background documents or comments received, go to http://www.regulations.gov at any time or to 1200 New Jersey Avenue SE, West Building Ground Floor, Room W12-140, Washington, DC 20590, between 9 a.m. and 5 p.m. Monday through Friday, except Federal holidays. Telephone: (202) 366-9826. To be sure someone is there to help you, please call (202) 366-9322 before coming.

Privacy Act: In accordance with 5 U.S.C. 553(c), DOT solicits comments from the public to better inform its rulemaking process. DOT posts these comments, without edit, to www.regulations.gov, as described in the system of records notice, DOT/ALL-14 FDMS, accessible through www.dot.gov/privacy. To facilitate comment tracking and response, the agency encourages commenters to provide their name, or the name of their organization; however, submission of names is completely optional. Whether or not commenters identify themselves, all timely comments will be fully considered. If you wish to provide comments containing proprietary or confidential information, please see below.

Confidential Business Information: If you wish to submit any information under a claim of confidentiality, you must submit your request directly to NHTSA's Office of the Chief Counsel. Requests for confidentiality are governed by part 512. NHTSA is currently treating electronic submission as an acceptable method for submitting confidential business information to the agency under part 512. If you would like to submit a request for confidential treatment, you may email your submission to Dan Rabinovitz in the Office of the Chief Counsel at Daniel.Rabinovitz@dot.gov or you may contact Dan for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, appendix A. In addition, you should submit a copy, from which you have deleted the claimed confidential business information, to the docket at the address given above.

SUPPLEMENTARY INFORMATION:

I. Background

a. Statutory Authority for Temporary Exemptions

The National Traffic and Motor Vehicle Safety Act (Safety Act), codified as 49 U.S.C. chapter 301, provides the Secretary of Transportation with authority to exempt, on a temporary basis, under specified circumstances, and on terms the Secretary considers appropriate, motor vehicles from a motor vehicle safety standard or bumper standard. This authority and circumstances are set forth in 49 U.S.C. 30113. The Secretary has delegated the authority for implementing this section to NHTSA.

NHTSA established 49 CFR part 555, Temporary Exemption from Motor Vehicle Safety and Bumper Standards, to implement the statutory provisions concerning temporary exemptions, including renewals of temporary exemptions. Under part 555 subpart A, a vehicle manufacturer seeking an exemption or renewal of an exemption must submit a petition for exemption containing specified information. Among other things, the petition must set forth (a) the reasons why granting the exemption would be in the public interest and consistent with the objectives of the Safety Act, and (b) required information showing that the manufacturer satisfies one of four bases for an exemption.¹ Each petitioner is applying on the basis that compliance with the standard would prevent the manufacturer from selling a motor vehicle with an overall safety level at least equal to the overall safety level of nonexempted vehicles (see 49 CFR 555.6(d)). A manufacturer is eligible for an exemption on this basis only if NHTSA determines the exemption is for not more than 2,500 vehicles to be sold in the U.S. in any 12-month period. An exemption on this basis may be granted for not more than two years, but may be renewed upon reapplication.²

¹ 49 CFR 555.5(b)(5) and 555.5(b)(7).

² 555.8(b) and 555.8(e).

Under 49 CFR 555.8(e), “[i]f an application for renewal of temporary exemption that meets the requirements of § 555.5 has been filed not later than 60 days before the termination date of an exemption, the exemption does not terminate until the Administrator grants or denies the application for renewal.” NHTSA notes that the 13 petitions for renewal have been submitted by the deadline stated in 49 CFR 555.8(e).

b. FMVSS No. 208

On November 25, 2013, NHTSA published a final rule amending FMVSS No. 208 to require seat belts for each passenger seating position in all new over-the-road buses (OTRBs) regardless of gross vehicle weight rating (GVWR), and all other buses with GVWRs greater than 11,793 kilograms (kg) (26,000 pounds (lb)) (with certain exclusions).³

³ 78 FR 70415 (November 25, 2013); response to petitions for reconsideration, 81 FR 19902 (April 6, 2016). The final rule became effective November 28, 2016 for buses manufactured in a single stage, and a year later for buses manufactured in more than one stage.

In the notice of proposed rulemaking (NPRM) preceding the final rule (75 FR 50958, August 18, 2010), NHTSA proposed to permit manufacturers the option of installing either a Type 1 (lap belt) or a Type 2 (lap and shoulder belt) on side-facing seats.⁴ The proposed option was consistent with an existing provision in FMVSS No. 208 that allows lap belts for side-facing seats on buses with a GVWR of 4,536 kg (10,000 lb) or less. NHTSA proposed the option because the agency was unaware of any demonstrable increase in associated risks using lap belts when compared to using lap and shoulder belts on side-facing seats. In the NPRM, NHTSA noted that “a study commissioned by the European Commission regarding side-facing seats on minibuses and motorcoaches found that due to different seat belt designs, crash modes and a lack of real-world data, it cannot be determined whether a lap belt or a lap/shoulder belt would be the most effective.” ⁵

⁴ 75 FR at 50971.

⁵ 75 FR at 50971-50972 (citing http://ec.europa.eu/enterprise/automotive/projects/safety_consid_long_stg.pdf).

However, after the NPRM was published, the Motorcoach Enhanced Safety Act of 2012 was enacted as part of the Moving Ahead for Progress in the 21st Century Act ((MAP-21), Public Law 112-141 (July 6, 2012)). Section 32703(a) of MAP-21 directed the Secretary of Transportation (with authority delegated to NHTSA) to “prescribe regulations requiring safety belts to be installed in motorcoaches at each designated seating position.” ⁶ As MAP-21 defined “safety belt” to mean an integrated lap and shoulder belt, the final rule amended FMVSS No. 208 to require lap and shoulder belts at all designated seating positions, including side-facing seats, on OTRBs.⁷

⁶ MAP-21 states at § 32702(6) that “the term `motorcoach' has the meaning given the term `over-the-road bus' in section 3038(a)(3) of the Transportation Equity Act for the 21st Century (49 U.S.C. 5310 note), but does not include a bus used in public transportation provided by, or on behalf of, a public transportation agency; or a school bus, including a multifunction school activity bus.” Section 3038(a)(3) (49 U.S.C. 5310 note) states: “The term `over-the-road bus' means a bus characterized by an elevated passenger deck located over a baggage compartment.”

⁷ For side-facing seats on buses other than OTRBs, in the final rule NHTSA permitted either lap or lap/shoulder belts at the manufacturer's option.

Even as it did so, however, the agency reiterated its view that “the addition of a shoulder belt at [side-facing seats on light vehicles] is of limited value, given the paucity of data related to side facing seats.” ⁸ The agency also noted that Australian Design Rule ADR 5/04, “Anchorages for Seatbelts” specifically prohibits shoulder belts for side-facing seats.⁹

⁸ 78 FR at 70448 (quoting the agency's Anton's Law final rule, which required lap/shoulder belts in forward-facing rear seating positions of light vehicles, 59 FR 70907).

⁹ Id.

Given that background, and believing there would be few side-facing seats on OTRBs, NHTSA stated in the November 2013 final rule that manufacturers may petition NHTSA for a temporary exemption under 49 CFR part 555 to install lap belts instead of lap and shoulder belts at side-facing seats.¹⁰ NHTSA further explained that a manufacturer could seek such an exemption on the basis that the applicant is otherwise unable to sell a vehicle whose overall level of safety is at least equal to that of an nonexempted vehicle, stating that the agency would be receptive to an argument that, for side-facing seats, lap belts provide an equivalent level of safety to lap and shoulder belts.¹¹

¹⁰ Id.

¹¹ Id.

Since issuing the November 2013 final rule, NHTSA has granted temporary exemptions to 15 final stage manufacturers of entertainer buses for the same shoulder belt requirement in FMVSS No. 208 for side-facing seats on entertainer buses, including the 13 manufacturers discussed in this notice who are seeking renewals of their exemptions.¹²

¹² The first petition was submitted by Hemphill Brothers Leasing Company, LLC (Hemphill). (Notice of receipt of petition, 84 FR 11735 (March 28, 2019); notice of grant of petition, 84 FR 69966 (November 14, 2019)). In its original petition, Hemphill stated that 39 “other petitioners” were covered by it. Later, NHTSA granted the 13 petitions submitted by All Access Coach Leasing LLC, Amadas Coach, Creative Mobile Interiors, D&S Classic Coach Inc., Farber Specialty Vehicles, Florida Coach, Inc., Geomarc, Inc., Integrity Interiors LLC, Nitetrain Coach Company, Inc., Pioneer Coach Interiors LLC, Roberts Brothers Coach Company, Russell Coachworks LLC, and Ultra Coach Inc. (Notice of receipt of the petitions, 85 FR 51550 (August 20, 2022); notice of grant of petitions, 87 FR 33299 (June 1, 2022)). Most recently, NHTSA granted an exemption to Beat the Street Interiors, Inc. (BTS). (Notice of receipt of petition, 88 FR 25445 (April 26, 2024); notice of grant of petition, 88 FR 78093 (November 14, 2023)).

In the most recent decision notice granting one of these exemptions,¹³ NHTSA's rationale for granting the exemption cited the uncertainties about shoulder belts on side-facing seats, the few side-facing seats on buses subject to the November 2013 final rule, and that FMVSS No. 208 does not require shoulder belts on side-facing seats on any other vehicle type. NHTSA's analysis also discussed the petitioner's statements regarding safety concerns about the shoulder belt portion of a lap and shoulder belt on side-facing seats and noted that the petitioner did not provide any additional information about the potential for “serious injury” beyond reciting what NHTSA stated on the matter in the November 2013 final rule. NHTSA stated that it believes the potential safety risk at issue is theoretical, as explained in the November 2013 final rule, and that the agency could not affirmatively conclude, based on available information, that shoulder belts on side-facing seats are associated with a demonstrated risk of serious neck injuries in front crashes. However, NHTSA also stated that it believes a shoulder belt is of limited value on side-facing seats for the reasons explained in the final rule and further explained that it believed granting the exemption is consistent with the public interest and the Safety Act.

¹³ 88 FR 25445.

II. Receipt of Petitions

In accordance with 49 U.S.C. 30113 and the procedures in 49 CFR part 555, 13 final-stage manufacturers of entertainer motorcoaches have submitted individual, mostly identical petitions asking NHTSA for renewals of their temporary exemptions from the shoulder belt requirement of FMVSS No. 208 for side-facing seats on their vehicles. The petitioners seek renewal of their exemptions to allow them to continue installing Type 1 seat belts (lap belt only) at side-facing seating positions, instead of Type 2 seat belts (lap and shoulder belts) as required by FMVSS No. 208. NHTSA granted the 13 exemptions in a Federal Register notice published on June 1, 2022 (87 FR 33299) and the exemptions expire on June 1, 2024. The basis for each of the petitions, like the petitioners' original petitions, is that compliance would prevent each petitioner from selling a motor vehicle with an overall safety level at least equal to the overall safety level of nonexempted vehicles (49 CFR 555.6(d)).

For the convenience of readers, and to facilitate administrative processing of the petitions, NHTSA is issuing this single document to notify the public of and request comment on the petitions rather than publishing separate notices for each petition. Copies of each petition have been placed in the docket listed in the heading of this notice. To view the petitions, go to http://www.regulations.gov and enter the docket number in the heading.

The petitioners are listed alphabetically as follows: All Access Coach Leasing LLC, Amadas Coach, Creative Mobile Interiors, D&S Classic Coach Inc., Farber Specialty Vehicles, Florida Coach, Inc., Geomarc, Inc., Integrity Interiors LLC, Nitetrain Coach Company, Inc., Pioneer Coach Interiors LLC, Roberts Brothers Coach Company, Russell Coachworks LLC, and Ultra Coach Inc.

a. Brief Overview of the Petitions

Each petitioner states that it is a final-stage manufacturer of entertainer-type motorcoaches and is responsible for ensuring the completed vehicle meets the FMVSS. Each petitioner also states that it typically receives a bus shell ¹⁴ and customizes it to meet the needs of its entertainer clients and other specialized customers. Each petitioner states that it “builds out the complete interior” of the bus shell, including: roof escape hatch; fire suppression systems (interior living space, rear tires, electrical panels, bay storage compartments, and generator); ceiling, side walls and flooring; seating; electrical system, generator, invertor and house batteries; interior lighting; interior entertainment equipment; heating, ventilation and cooling system; galley with potable water, cooking equipment, refrigerators, and storage cabinets; bathroom and showers; and sleeping positions.

¹⁴ Each petition describes the bus shell as generally containing the following components: exterior frame; driver's seat; dash cluster, speedometer, emissions light and emissions diagnosis connector; exterior lighting, headlights, marker lights, turn signal lights, and brake lights; exterior glass, windshield and side lights with emergency exits; windshield wiper system; braking system; tires, tire pressure monitoring system and suspension; and engine and transmission.

Pursuant to 49 CFR 555.6(d), an application must provide “[a] detailed analysis of how the vehicle provides the overall level of safety or impact protection at least equal to that of nonexempted vehicles.”

Each petitioner reiterates, as part of their justification that the vehicles provide an overall level of safety equivalent to that of a nonexempted vehicle, statements made in NHTSA's 2013 final rule as well as excerpts from the agency's discussion in the June 2022 Federal Register notice granting temporary exemptions to the 13 petitioners. Specifically, each petitioner cites NHTSA's statement that it “believes a shoulder belt is of limited value on side-facing seats for the reasons explained in the [November 2013] final rule.” Each petitioner also cites NHTSA's conclusion that “[g]iven the uncertainties about shoulder belts on side-facing seats, the few side-facing seats there are on buses subject to the November 2013 final rule, and that FMVSS No. 208 does not require shoulder belts on side-facing seats on any other vehicle type, NHTSA is granting the petitions for temporary exemption.” Each petitioner states that the considerations and conclusions from the 2022 grant are still pertinent. Additional details are provided in the petitions, which may be located in the docket identified at the top of this document.

Pursuant to 49 CFR 555.5(b)(7), petitioners must state why granting an exemption allowing it to install Type 1 instead of Type 2 seat belts in side-facing seats would be in the public interest and consistent with the objectives of the Safety Act. Each petitioner states that granting an exemption would allow the petitioner the option to continue providing seat belts at side-facing seating positions that are equivalent to or exceed the safety performance of Type 2 belts under the requirements in FMVSS No. 208 (S4.4.5.1.2(c)). Each petitioner also cites NHTSA's statements from the 2022 grant notice in which NHTSA stated that it believes that granting the petitioners' exemption requests is consistent with the public interest and that granting the exemptions would provide relief to small businesses by providing “an objective standard that is easy for manufacturers to understand and meet.”

In support of the petitions, each petitioner also states that only a small number of entertainer-type motorcoaches with side-facing seats are manufactured in the U.S. market each year and that the number of vehicles they would produce within any 12-month period would be well below the 2,500 limit in part 555.

Each petitioner also indicates that it expects to seek to renew this exemption, if granted, at the end of the exemption period. In support of this intention, each petitioner notes the agency's apparent lack of research, testing, or analysis to justify the use of Type 2 belts on side-facing seats in over-the-road-buses.

III. Effective Date for Renewals, if Granted

As noted above, under 49 CFR 555.8(e), “[i]f an application for renewal of temporary exemption that meets the requirements of § 555.5 has been filed not later than 60 days before the termination date of an exemption, the exemption does not terminate until the Administrator grants or denies the application for renewal.” As the current temporary exemptions for the 13 manufacturers end on June 1, 2024, and NHTSA received the petitions on April 1, 2024, the petitions were submitted by the deadline stated in 49 CFR 555.8(e). Accordingly, the exemptions will not terminate until the Administrator grants or denies the applications for renewal. Since the original two-year exemptions would have expired on June 1, 2024, if granted, the new exemption period would run from June 1, 2024 until June 1, 2026.

Additionally, because each petitioner cited the low number of entertainer-type motorcoaches produced each year in support of its assertion that granting the renewals would be in the public interest, NHTSA is requesting that each of the petitioners submit, during the comment period, the total number of vehicles they produced during their initial exemption period from June 1, 2022 to June 1, 2024.

IV. Comment Period

The agency seeks comment from the public on the merits of the petitions requesting renewals of temporary exemptions from FMVSS No. 208's shoulder belt requirement for side-facing seats. The petitioners seek to install lap belts at the side-facing seats; they do not seek to be completely exempted from a belt requirement. Further, the petitioners' requests do not pertain to forward-facing designated seating positions on their vehicles. Under FMVSS No. 208, forward-facing seating positions on motorcoaches must have Type 2 lap and shoulder belts, and the petitioners are not seeking an exemption from that requirement for forward-facing seats. After considering public comments and other available information, NHTSA will publish a notice of final action on the petitions in the Federal Register.

Authority: 49 U.S.C. 30113; delegation of authority at 49 CFR 1.95 and 501.5.

Sophie Shulman,
Deputy Administrator.

[FR Doc. 2024-14550 Filed 7-1-24; 8:45 am]

BILLING CODE 4910-59-P